DEPARTMENT OF HEALTH AND HUMAN SERVICES

Administration for Children and Families

Submission for OMB Review; Comment Request

Title: Accomplishments of the Domestic Violence Hotline, Online Connections and Text (ADVHOCaT) Study.

OMB No.: New Collection.

Description: The National Domestic Violence Hotline (NDVH) and the National Dating Abuse Helpline or loveisrespect (NDAH/LIR), which are supported by the Family Violence Prevention and Services Act Program (FVPSA Program) within the Family and Youth Services Bureau (FYSB) of the Administration for Children and Families (ACF), U.S. Department of Health and Human Services (HHS), serve as partners in the intervention, prevention, and resource assistance efforts of the network of family violence, domestic violence, and dating violence service providers.

In order to describe the activities and accomplishments of the NDVH and NDAH/LIR and develop potential new or revised performance measures, the Office of Planning, Research and Evaluation (OPRE) and FYSB's FVPSA Program, within ACF/HHS are proposing data collection activity as part of the Accomplishments of the Domestic Violence Hotline, Online Connections and Text (ADVHOCaT) Study.

This study will primarily analyze data previously collected by the NDVH and NDAH/LIR as part of their ongoing program activities and monitoring. ACF proposes to collect additional information, including information about the preferred mode (phone, chat, text), ease of use, and perceived privacy and safety of each mode of contact.

This data is to be collected through voluntary web-based surveys that are to be completed by those who access the NDVH and NDAH/LIR Web sites. This information will be critical to informing future efforts to monitor and improve the performance of domestic violence hotlines and provide hotline services.

Respondents: Individuals who access the NDVH and NDAH/LIR Web sites.

Annual Burden Estimates
Instrument | Total/annual number of respondents | Number of responses per respondent | Average burden hours per response | Annual burden hours
NDVH/LIR Preference of Use Survey | 5,000 | 1 | 0.041 hours (150 seconds) | 205 hours.

Estimated Total Annual Burden Hours: 205 hours.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget

Paperwork Reduction Project

Email: OIRA_SUBMISSION@OMB.EOP.GOV

Attn: Desk Officer for the Administration for Children and Families

Robert Sargis,
ACF Reports Clearance Officer.

[FR Doc. 2015-23967 Filed 9-21-15; 8:45 am]

BILLING CODE 4184-32-P